DEPARTMENT OF ENERGY

Federal Energy Regulatory Commission

[Docket No. RP01-197-000]

Transcontinental Gas Pipe Line Corporation; Notice of Tariff Filing

January 3, 2001.

Take notice that on December 21, 2000 Transcontinental Gas Pipe Line Corporation (Transco) tendered for filing with the Federal Energy Regulatory Commission (Commission) Thirty First Revised Sheet No. 50 to its FERC Gas Tariff, Third Revised Volume No. 1. The proposed effective date of the attached tariff sheet is November 1, 2000.

Transco states that the purpose of the instant filing is to track rate changes attributable to transportation service purchased from Texas Gas Transmission Corporation (Texas Gas) under its Rate Schedule FT the costs of which are included in the rates and charges payable under Transco's Rate Schedule FT-NT. This filing is being made pursuant to tracking provisions under Section 4 of the Transco's Rate Schedule FT-NT.

Included in Appendix B attached to the filing is the explanation of the rate changes and details regarding the computation of the revised FT-NT rates.

Transco states that copies of the filing are being mailed to each of its FT-NT customers and interested State Commissions.

Any person desiring to protest said filing should file a protest with the Federal Energy Regulatory Commission, 888 First Street, NE., Washington, DC 20426, in accordance with section 385.211 of the Commission's rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-529 Filed 1-8-01; 8:45 am]

BILLING CODE 6717-01-M